DEPARTMENT OF VETERANS AFFAIRS

Genomic Medicine Program Advisory Committee; Notice of Meeting

The Department of Veterans Affairs (VA) gives notice under Public Law 92-463 (Federal Advisory Committee Act) that the Genomic Medicine Program Advisory Committee will meet on April 27, 2009, at the Madison Hotel, 1177 15th St NW., Washington, DC. The meeting will start at 8 a.m. and end at 5 p.m.

The purpose of the Committee is to provide advice and make recommendations to the Secretary of Veterans Affairs on using genetic information to optimize medical care of Veterans and to enhance development of tests and treatments for diseases particularly relevant to Veterans.

The Committee will meet in an open session from 8 a.m. until 3:30 p.m. to receive updates from the VA program staff; discuss optimal ways for VA to incorporate genomic information into its health care program while applying appropriate ethical oversight and protecting the privacy of Veterans; and receive an overview of the recent Institute of Medicine report on privacy protections in health research and discussions of potential areas of research in diseases/conditions prevalent in Veterans such as diabetes, women's health, specifically breast cancer, and the application of pharmacogenomics in clinical care.

The Committee will meet in a closed session from 3:30 p.m. until 5 p.m. for discussion of confidential and unpublished results of an ongoing pilot study. As provided by section 10(d) of Public Law 92-463, as amended, closing portions of this meeting is in accordance with the provisions set forth in sections 552b(c)(6) and (c)(9)(B), Title 5 U.S.C., as amended. The discussions and review of the ongoing pilot study and related documents could disclose confidential information and therefore compromise this ongoing study.

Public comments will be received at 3 p.m. Public comments will be limited to five minutes each. Individuals who speak are invited to submit 1-2 page summaries of their comments at the time of the meeting for inclusion in the official meeting record. Any member of the public seeking additional information should contact Dr. Sumitra Muralidhar, Designated Federal Officer, at sumitra.muralidhar@va.gov.

Dated: March 27, 2009.
By Direction of the Secretary.
E. Philip Riggin,
Committee Management Officer.

[FR Doc. E9-7457 Filed 4-1-09; 8:45 am]

BILLING CODE 8320-01-P